DEPARTMENT OF TRANSPORTATION

Federal Aviation Administration

14 CFR Part 39

[Docket No. FAA-2006-23604; Directorate Identifier 2005-NE-49-AD; Amendment 39-14498; AD 2006-05-01]

RIN 2120-AA64

Airworthiness Directives; Rolls-Royce plc RB211 Trent 500, 700, and 800 Series Turbofan Engines; Correction

AGENCY: Federal Aviation Administration, DOT.

ACTION: Final rule; correction.

SUMMARY: This document makes a correction to Airworthiness Directive (AD) 2006-05-01. That AD applies to Rolls-Royce plc RB211 Trent 500, 700, and 800 series turbofan engines. We published AD 2006-05-01 in the Federal Register on March 1, 2006, (71 FR 10415). An incorrect engine model number exists in the compliance section, in two places. This document corrects the engine model number. In all other respects, the original document remains the same.

DATES: Effective Date: Effective March 9, 2006.

FOR FURTHER INFORMATION CONTACT: Christopher Spinney, Aerospace Engineer, Engine Certification Office, FAA, Engine and Propeller Directorate, 12 New England Executive Park, Burlington, MA 01803; telephone (781) 238-7175; fax (781) 238-7199.

SUPPLEMENTARY INFORMATION: A final rule AD, FR Doc. 06-1827, that applies to Rolls-Royce plc RB211 Trent 500, 700, and 800 series turbofan engines was published in the Federal Register on March 1, 2006, (71 FR 10415). The following correction is needed:

§ 39.13 [Corrected]

On page 10416, in the second column, in compliance paragraph (c), in the fifth line, “675-17” is corrected to read “875-17”. Also, on the same page, in compliance paragraph (i)(1), in the fourth line, “675-17” is corrected to read “875-17”.

Issued in Burlington, MA, on March 3, 2006.
Peter A. White,
Acting Manager, Engine and Propeller Directorate, Aircraft Certification Service.

[FR Doc. 06-2244 Filed 3-8-06; 8:45 am]

BILLING CODE 4910-13-P